DEPARTMENT OF HEALTH AND HUMAN SERVICES

Food and Drug Administration

Conference Grants to Support State Food Safety Task Force Meetings; Availability of Funds Grants; Request for Applications; Correction

AGENCY: Food and Drug Administration, HHS.

ACTION: Notice.

The Food and Drug Administration (FDA) is correcting notice document 04-14395 beginning on page 35651 in the issue of Friday, June 25, 2004, by making the following corrections:

On page 35651 in the second column, the DATES section is corrected to read: “DATES: The application receipt date for new applications is March 15, 2005. The application receipt date for new applications for each subsequent year this program is in effect will be March 15.”

On page 35651, in the second column, the “ADDRESSES” section should read: “ADDRESSES: FDA is accepting new applications for this program electronically via Grants.gov.; applicants are strongly encouraged to apply electronically by visiting the Web site http://www.grants.gov. and following the instructions under “APPLY.” The applicant must register in the Central Contractor Registration (CCR) database in order to be able to submit the application.”

Information about CCR is available at http://www.grants.gov/CCRRegister. The applicant must register with the Credential Provider for Grants.gov.

Information about this requirement is available at http://www.grants.gov/CredentialProvider. If it is necessary for applicants to submit applications other than through the electronic process, application forms are available from, and completed applications should be submitted to Michelle Caraffa, Division of Contracts and Grants Management (HFA-500), Food and Drug Administration, 5600 Fishers Lane, rm. 2129, Rockville, MD 20857, 301-827-7025, e-mail: mcaraffa@oc.fda.gov. Application forms PHS 5161-1 are available via the Internet at: http://www.psc.gov/forms (Revised 7/00). Applications handcarried or commercially delivered should be addressed to 5630 Fishers Lane (HFA-500), rm. 2129, Rockville, MD 20857. An application not received in time for orderly processing will be returned to the applicant without consideration.

On page 35651, beginning in the second column, “FOR FURTHER INFORMATION CONTACT” should read:

FOR FURTHER INFORMATION CONTACT:

Regarding the administrative and financial management aspects of this notice: Michelle N. Caraffa (see ADDRESSES).

Regarding the programmatic aspects of this notice: Stephen Toigo, Division of Federal-State Relations (DFSR), Office of Regulatory Affairs, Food and Drug Administration (HFC-150), 5600 Fishers Lane, rm. 12-07, Rockville, MD 20857, 301-827-6906, or access the Internet at: http://www.fda.gov/ora/fed_state/default.htm. For general ORA program information contact your Regional Food Specialists at http://www.fda.gov/ora/fed_state/DFSR_Activities/food_specialists.htm

On page 35653 in the first column, under section V.A, a sentence is added at the end of the paragraph that reads: “A Current Listing of SPOCs can be found at http://www.whitehouse.gov/omb/grants/spoc.html.”

On page 35653 in the third column, under section VII, the paragraph is revised to read: “Applicants are encouraged to apply electronically (see ADDRESSES). If not, the original and two copies of the completed grant application Form PHS-5161-1 (Revised 7/00) for State and local governments should be delivered to the Grants Management Office. The receipt date is March 15, 2005. No supplemental material or addenda will be accepted after the receipt date.”

On page 35653 in the third column, under section VIII.A in the second paragraph, the last sentence should read: “FDA is now accepting applications via the Internet.”

Dated: January 31, 2005.
Jeffrey Shuren,
Assistant Commissioner for Policy.

[FR Doc. 05-2209 Filed 2-3-05; 8:45 am]

BILLING CODE 4160-01-S